DEPARTMENT OF DEFENSE

Office of the Secretary

[Transmittal Nos. 13-27]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-27 with attached transmittal, and policy justification.

Dated: July 2, 2013.
Aaron Siegel,
Alternate OSD Federal Register Liaison Officer, Department of Defense.

BILLING CODE 5001-06-P

BILLING CODE 5001-06-C

Transmittal No. 13-27

Notice of Proposed Issuance of Letter of Offer

Pursuant to Section 36(b)(1) of the Arms Export Control Act, as amended

(i) Prospective Purchaser: Qatar

(ii) Total Estimated Value:

Major Defense Equipment* | $35 million
Other | $ 0 million
Total | $35 million
* As defined in Section 47(6) of the Arms Export Control Act.

(iii) Description and Quantity or Quantities of Articles or Services under Consideration for Purchase: 2 F117-PW-100 C-17 Globemaster III spare engines, support equipment, publications and technical data, personnel training and training equipment, site surveys, U.S. Government and contractor engineering, technical, and logistics support services, design and construction, and other related elements of logistics support.

(iv) Military Department: Air Force (QAB Amendment 4)

(v) Prior Related Cases, if any: FMS case QAB—$400M—9 Jul 08

(vi) Sales Commission, Fee, etc., Paid, Offered, or Agreed to be Paid: None

(vii) Sensitivity of Technology Contained in the Defense Article or Defense Services Proposed to be Sold: None

(viii) Date Report Delivered to Congress: 27 June 2013

POLICY JUSTIFICATION

Qatar—C-17 Globemaster III Equipment and Support

The Government of Qatar has requested a possible sale of 2 F117-PW-100 C-17 Globemaster III spare engines, support equipment, publications and technical data, personnel training and training equipment, site surveys, U.S. Government and contractor engineering, technical, and logistics support services, design and construction, and other related elements of logistics support. The estimated cost is $35 million.

The proposed sale will contribute to the foreign policy and national security of the United States by helping to improve the security of a friendly country that has been, and continues to be, an important force for political stability and economic progress in the Middle East.

The proposed sale will enhance Qatar's ability to operate and maintain its C-17s, supporting its capability to provide humanitarian aid in the Middle East and Africa region and support its troops in coalition operations.

The proposed sale of this equipment and support will not alter the basic military balance in the region.

The prime contractor will be Pratt and Whitney of East Hartford, Connecticut. There are no known offset agreements proposed in connection with this potential sale.

Implementation of this proposed sale will require multiple U.S. Government and contractor representatives to travel to the region to support the program.

There will be no adverse impact on U.S. defense readiness as a result of this proposed sale.

[FR Doc. 2013-16313 Filed 7-8-13; 8:45 am]

BILLING CODE 5001-06-P